RAILROAD RETIREMENT BOARD

20 CFR Part 200

RIN 3220-AB47

Freedom of Information Act Requests

AGENCY: Railroad Retirement Board.

ACTION: Direct final rule.

SUMMARY: The Railroad Retirement Board (Board) hereby amends its regulations to provide that all requests under the Freedom of Information Act be made to the General Counsel. In addition, the regulation is updated to account for changes in the Freedom of Information Act enacted in the Electronic Freedom of Information Act Amendments of 1996.

DATES: This rule shall be effective on January 27, 2004, without further action, unless adverse comment is received by November 28, 2003. If adverse comment is received, the Railroad Retirement Board will publish a timely withdrawal of the rule in the Federal Register.

ADDRESSES: Secretary to the Board, Railroad Retirement Board, 844 North Rush Street, Chicago, Illinois 60611-2092.

FOR FURTHER INFORMATION CONTACT: Marguerite P. Dadabo, Assistant General Counsel, (312) 751-4945, TDD (312) 751-4701.

SUPPLEMENTARY INFORMATION: The Board has directed that the General Counsel shall respond to all requests under the Freedom of Information Act. In addition, the regulation is updated to account for changes in the Freedom of Information Act enacted in the Electronic Freedom of Information Act Amendments of 1996, Public Law 104-231. Nomenclature changes and updates for amendments to the Freedom of Information Act make no substantive changes in the Board's handling of requests under the Freedom of Information Act.

In § 200.4(d), the names of the various offices where various publications are made available have been amended for name changes within the agency. In § 200.4(h), the official designated to receive a Freedom of Information Act request has been amended to the General Counsel. In addition, the Board will accept such requests by e-mail. Section 200.4(i) has been amended to state that the General Counsel or his or her designee shall respond to all Freedom of Information Act requests. In addition, this section is amended to conform to the time limit, 20 work days, set forth in the Electronic Freedom of Information Act Amendments of 1996, Public Law 104-231. Sections 200.4(j), (k), (l), and (n)(2) are amended to change the official responsible for action to the General Counsel. Section 200.4(m) is amended to state that the annual Freedom of Information Act report shall be made to the Attorney General no later than February 1, as required by the Electronic Freedom of Information Act Amendments of 1996, Public Law 104-231.

Collection of Information Requirements

Pursuant to the Paperwork Reduction Act of 1995, the information collection that was associated with section 200.4(n) of this rule, concerning special procedures for handling requests for business information, had been approved by the Office of Management and Budget under control number 3220-0150. The currently-published version of § 200.4 states that: “(The information collection requirements for paragraph (n) were approved by the Office of Management and Budget under control number 3220-0150)”. We are now informed that OMB control number 3220-0150 is not an active number, and that the Board's historical files that might have explained the background for that number have been destroyed. Also, the information collection is not an information collection that requires OMB approval because it is not the same question, seeking the same information, from at least 10 people. Rather, paragraph (n) asks a provider of business information if any of that information should be withheld in response to a FOIA request for the business information. In light of this background, the sentence that referenced an OMB clearance number which no longer exists, is removed.

Regulatory Impact Statement

Prior to publication of this direct final rule, the Board submitted the rule to the Office of Management and Budget for review pursuant to Executive Order 12866. Executive Order 12866 directs agencies to assess all costs and benefits of available regulatory alternatives and when regulation is necessary, to select regulatory approaches that maximize net benefits (including potential economic, environmental, public health and safety effects, distributive impacts, and equity). A regulatory impact analysis (RIA) must be prepared for rules that constitute significant regulatory action, including rules that have an economic effect of $100 million or more annually. This direct final rule is not a major rule in terms of the aggregate costs involved. Specifically, we have determined that this direct final rule is not a major rule with economically significant effects because it would not result in increases in total expenditures of $100 million or more per year.

The amendments made by this direct final rule are not significant. The amendments provide that requests for information under the Freedom of Information Act should be directed to the Board's General Counsel. The revisions also update the agency's regulations to account for changes in the Freedom of Information Act enacted in the Electronic Freedom of Information Act Amendments of 1996.

Both the Regulatory Flexibility Act and the Unfunded Mandates Act of 1995 define “agency” by referencing the definition of “agency” contained in 5 U.S.C. 551(l). Section 551(l)(E) excludes from the term “agency” an agency that is composed of representatives of the parties or of representatives of organizations of the parties to the disputes determined by them. The Railroad Retirement Board falls within this exclusion (45 U.S.C. 231f(a)) and is therefore exempt from the Regulatory Flexibility Act and the Unfunded Mandates Act.

Executive Order 13132 establishes certain requirements that an agency must meet when it promulgates a rule that imposes substantial direct compliance costs on State and local governments, preempts State law, or otherwise has Federalism implications. We have reviewed this direct final rule under the threshold criteria of Executive Order 13132 and have determined that it would not have a substantial direct effect on the rights, roles, and responsibilities of States or local governments.

List of Subjects in 20 CFR Part 200

Claims, Freedom of information, Organization and functions (Government agencies), Privacy, Railroad retirement, Sunshine Act.

For the reasons set out in the preamble, title 20, part 200, of the Code of Federal Regulations is amended to read as follows:

PART 200—GENERAL ADMINISTRATION

1. The authority citation for part 200 continues to read as follows:

Authority: 45 U.S.C. 231f(b)(5) and 45 U.S.C. 362; § 200.4 also issued under 5 U.S.C. 552; § 200.5 also issued under 5 U.S.C. 552a; § 200.6 also issued under 5 U.S.C. 552b; and § 200.7 also issued under 31 U.S.C. 3717.

2. Section 200.4 is amended as follows:

a. By revising paragraphs (d), (h), (i), and (m);

b. In paragraphs (j) introductory text, (j)(2), (k), (l), and (n)(2) by removing the words “Executive Director” wherever they appear, and adding in their place the words “General Counsel”; and

c. By removing the parenthetical information collection sentence at the end of paragraph (p).

The revisions read as follows:

§ 200.4 Availability of information to the public.

* * * * *

(d) The materials and indexes thereto shall be kept, and made available to the public upon request, in the bureaus and offices of the Board that produce or utilize the materials. The following materials currently in use shall, as long as they are in effect as precedents and instructions, be made available in offices of the Board at 844 North Rush Street, Chicago, Illinois 60611-2092:

(1) In the Office of Programs/Operations: The Retirement Claims Manual, RCM Circulars, Special Services Manual, Policy Decisions, Procedural Memoranda containing information on the adjudication of claims not contained in the Retirement Claims Manual or in RCM Circulars, Field Operating Manual (Parts I and VI), FOM Circulars and Memoranda, the Occupational Disability Rating Schedule, Adjudication Instruction Manual, Regional Operating Manual (Part I), memorandum instructions on adjudication, and circular letters of instruction to railroad officials.

(2) In the Office of Programs/Assessment and Training: The Instructions to Employers, and Circular Letters to Employers.

(3) In the Office of General Counsel: Legal Opinions.

(4) In the Office of the Secretary to the Board: Decisions and rulings of the Board.

(5) Regional offices and field offices shall also make available to the extent practicable such of these materials and indexes as are furnished them in the ordinary course of business.

* * * * *

(h) Any person or organization requesting records pursuant to this section shall submit such request in writing to the General Counsel, Railroad Retirement Board, Room 836, 844 North Rush Street, Chicago, Illinois 60611-2092. All such requests should be clearly and prominently identified as requests for information under the Freedom of Information Act. If submitted by mail or otherwise submitted in an envelope or other cover, requests should be clearly and prominently identified as such on the envelope or cover. Requests may also be submitted by e-mail, LAWGroupMailbox@rrb.gov.

(i) The General Counsel, or any other individual specifically authorized to act on behalf of the General Counsel, shall have the authority to grant or deny a request for information submitted under this section. The General Counsel or such authorized representative shall, within 20 working days following the receipt of a request, except as provided in paragraph (j)(1) of this section, make a determination granting or denying the request and notify the requester of his or her decision, and if a denial, the reasons therefor. The requester shall be further advised that a total or partial denial may be appealed to the Board as provided in paragraph (j) of this section.

* * * * *

(m) The Board shall, prior to February 1 of each year, prepare and submit a report to the Attorney General of the United States covering each of the categories of records maintained in accordance with the foregoing for the preceding fiscal year.

* * * * *

Dated: October 22, 2003.
By Authority of the Board.
Beatrice Ezerski,
Secretary to the Board.

[FR Doc. 03-27107 Filed 10-28-03; 8:45 am]

BILLING CODE 7905-01-P